DEPARTMENT OF THE INTERIOR

Fish and Wildlife Service

[FWS-R2-ES-2021-N177; FXES11130200000-212-FF02ENEH00]

Endangered and Threatened Wildlife and Plants; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act of 1973, as amended (ESA), prohibits certain activities that may impact endangered species unless a Federal permit allows such activity. The ESA also requires that we invite public comment before issuing these permits.

DATES: To ensure consideration, please submit your written comments by September 15, 2021.

ADDRESSES: Document availability: Request documents by phone or email: Beth Forbus, 505-248-6681, beth_forbus@fws.gov.

Comment submission: Submit comments by email to fw2_te_permits@fws.gov. Please specify the permit you are interested in by number (e.g., Application No. ESPER1234567).

FOR FURTHER INFORMATION CONTACT: Beth Forbus, Supervisor, Classification and Restoration Division, 505-248-6681. Individuals who are hearing or speech impaired may call the Federal Relay Service at 1-800-877-8339 for TTY assistance.

SUPPLEMENTARY INFORMATION:

Background

With some exceptions, the Endangered Species Act (ESA; 16 U.S.C. 1531 et seq.) prohibits activities that constitute take of listed species unless a Federal permit is issued that allows such activity. The ESA's definition of “take” includes hunting, shooting, harming, wounding, or killing but also such activities as pursuing, harassing, trapping, capturing, or collecting.

The ESA and our implementing regulations in the Code of Federal Regulations (CFR) at title 50, part 17, provide for issuing such permits and require that we invite public comment before issuing permits for activities involving endangered species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Releasing documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the application number when submitting comments.

Application No. | Applicant | Species | Location | Activity | Type of take | Permit action
ESPER001318 | Wright, Marjorie; Los Alamos, New Mexico | Jemez Mountains salamander (Plethodon neomexicanus) | New Mexico | Presence/absence surveys; capture | Harm, harass | Renew.
ESPER001337 | Odysea Aquarium, LLC; Scottsdale, Arizona | Kemp's ridley sea turtle (Lepidochelys kempii) | Arizona | Hold, display | Harm, harass | Renew and Amend.
ESPER001137 | Thompson, Brent; White Rock, New Mexico | Jemez Mountains salamander (Plethodon neomexicanus) | New Mexico | Presence/absence surveys, capture, biosample | Harm, harass | New.
ESPER001295 | Reichenbacher, Frank; Scottsdale, Arizona | Arizona cliffrose (Purshia subintegra) | New Mexico | Survey/monitor, leaf collection | Harm, harass | New.
ESPER001233 | West, Sue; Albuquerque, New Mexico | Southwestern willow flycatcher (Empidonax traillii extimus), Jemez Mountains salamander (Plethodon neomexicanus) | New Mexico | Presence/absence surveys, capture, biosample | Harm, harass | New.
ESPER001235 | Davidson, Zoe (BLM); Santa Fe, NM | Knowlton's cactus (Pediocactus knowltonii), Kuenzler's hedgehog cactus (Echinocereus fendleri var. kuenzleri), Sneed's pincushion cactus (Coryphantha sneedii var. sneedii), Holy Ghost ipomopsis (Ipomopsis sancti-spiritus), Mancos milk-vetch (Astragalus humillimus), Todsen's pennyroyal (Hedeoma todsenii), Sacramento prickly poppy (Argemone pleiacantha ssp. pinnatisecta), Lee pincushion cactus (Coryphantha sneedii var. leei), Mesa Verde cactus (Sclerocactus mesae-verdae), Zuni Fleabane (Erigeron rhizomatus), Pecos sunflower (Helianthus paradoxus), Sacramento Mountains thistle (Cirsium vinaceum), gypsum wild-buckwheat (Eriogonum gypsophilum) | New Mexico | Survey/monitor, Seed/fruit collection | Harm, harass | New.
ESPER001385 | New Mexico State Land Office; Santa Fe, New Mexico | Southwestern willow flycatcher (Empidonax traillii extimus) | New Mexico | Presence/absence surveys | Harm, harass | Renew and Amend.

Authority

We provide this notice under section 10 of the ESA (16 U.S.C. 1531 et seq.).

Amy Lueders,
Regional Director, Southwest Region, U.S. Fish and Wildlife Service.

[FR Doc. 2021-17522 Filed 8-13-21; 8:45 am]

BILLING CODE 4333-15-P